DEPARTMENT OF TRANSPORTATION

Federal Aviation Administration

Notice of Opportunity for Public Comment on Surplus Property Release at Gadsden Municipal Airport, Gadsden, AL

AGENCY: Federal Aviation Administration (FAA), DOT.

ACTION: Notice of intent to rule on land release request.

SUMMARY: Under the provisions of title 49 U.S.C. 47153(c), notice is being given that the FAA is considering a request from the City of Gadsden to waive the requirement that a 12.21-acre parcel of surplus property, located at the Gadsden Municipal Airport, be used for aeronautical purposes.

DATES: Comments must be received on or before October 18, 2004.

ADDRESSES: Comments on this notice may be mailed or delivered in triplicate to the FAA at the following address: Jackson Airports District Office, 100 West Cross Street, Suite B, Jackson, MS 39208-2307.

In addition, one copy of any comments submitted to the FAA must be mailed or delivered to the Gadsden Airport Authority, Gadsden, Alabama at the following address: Mr. Fred Sington, Gadsden Airport Authority, Post Office Bos 267, Gadsden, AL 35902-0267.

FOR FURTHER INFORMATION CONTACT: Keafur Grimes, Program Manager, Jackson Airports District Office, 100 West Cross Street, Suite B, Jackson, MS 39208-2307, (601) 664-9886. The land release request may be reviewed in person at this same location.

SUPPLEMENTARY INFORMATION: The FAA is reviewing a request by Mr. Fred Sington to release 12.21 acres of surplus property at the Gadsden Municipal Airport. The property will be purchased by Decatur Plastics for industrial purposes. The net proceeds from the sale of this property will be used for airport purposes.

Any person may inspect the request in person at the FAA office listed above under FOR FURTHER INFORMATION CONTACT. In addition, any person may, upon request, inspect the request, notice and other documents germane to the request in person at the Airport District Office.

Issued in Jackson, Mississippi, on September 9, 2004.
Rans D. Black,
Manager, Jackson Airports District Office, Southern Region.

[FR Doc. 04-20918 Filed 9-16-04; 8:45 am]

BILLING CODE 4910-13-M